DEPARTMENT OF DEFENSE

Defense Acquisition Regulations System

[Docket Number DARS-2015-0059]

Information Collection Requirements; Defense Federal Acquisition Regulation Supplement; DFARS Part 242, Contract Administration and Related Clause in DFARS 252

AGENCY: Defense Acquisition Regulations System, Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through April 30, 2016. DoD proposes that OMB extend its approval for three additional years.

DATES: DoD will consider all comments received by February 16, 2016.

ADDRESSES: You may submit comments, identified by OMB Control Number 0704-0250, using any of the following methods:

○ Federal eRulemaking Portal: http://www.regulations.gov. Follow the instructions for submitting comments.

○ Email: osd.dfars@mail.mil. Include OMB Control Number 0704-0250 in the subject line of the message.

○ Fax: 571-372-6094.

○ Mail: Defense Acquisition Regulations System, Attn: Ms. Tresa Sullivan, OUSD(AT&L)DPAP(DARS), 3B941, 3060 Defense Pentagon, Washington, DC 20301-3060.

Comments received generally will be posted without change to http://www.regulations.gov, including any personal information provided. To confirm receipt of your comment(s), please check www.regulations.gov approximately two to three days after submission to verify posting, (except allow 30 days for posting of comments submitted by mail).

FOR FURTHER INFORMATION CONTACT: Ms. Tresa Sullivan, 571-372-6089.

SUPPLEMENTARY INFORMATION:

Title and OMB Number: Information Collection in Support of the Defense Federal Acquisition Regulation Supplement (DFARS) Part 242; Contract Administration and related clause in DFARS 252; OMB Control Number 0704-0250.

Needs and Uses: The Government requires this information in order to perform its contract administration functions. DoD uses the information as follows:

a. The information required by DFARS subpart 242.11 is used by contract administration offices to monitor contract progress, identify factors that may delay contract performance, and to ascertain potential contract delinquencies.

b. The information required by DFARS 252.242-7004 is used by contracting officers to determine if contractor material management and accounting systems conform to established DoD standards.

Affected Public: Businesses or other for-profit, and not-for-profit institutions.

Type of Request: Extension.

Number of Respondents: 7,418.

Responses per Respondent: 12.8.

Annual Responses: 94,963.

Average Burden per Response: 2.02 hours, approximately.

Annual Burden Hours: 192,372.

Reporting Frequency: On occasion.

Summary of Information Collection

This information collection includes requirements relating to DFARS part 242, Contract Administration and Audit Services, and the related clause at DFARS part 252.

a. DFARS 242.11 requires DoD contract administration personnel to perform production surveillance to monitor contractor progress and identify any factors that may delay performance. The Government relies on the production progress reports provided by the contractor in the performance of this function.

(2) DFARS 252.242-7004 requires a contractor to establish and maintain a material management and accounting system for applicable contracts, to provide results of system reviews, and disclose significant changes in its system.

Jennifer L. Hawes,
Editor, Defense Acquisition Regulations System.

[FR Doc. 2015-31848 Filed 12-17-15; 8:45 am]

BILLING CODE 5001-06-P